DEPARTMENT OF HEALTH AND HUMAN SERVICES

Centers for Disease Control and Prevention

Addressing Asthma From a Public Health Perspective: Part A; Enhanced; Notice of Availability of Funds

Announcement Type: New.

Funding Opportunity Number: RFA 05044.

Catalog of Federal Domestic Assistance Number: 93.283.

Key Dates: Application Deadline: June 6, 2005.

I. Funding Opportunity Description

Authority: This program is authorized under Sections 301 and 317 of the Public Health Service Act, (42 U.S.C. 241 and 247b), as amended.

Purpose: The purpose of the program is to provide the impetus to further develop program capacity to address asthma from a public health perspective to bring about: (1) A focus of asthma-related activity within the state; (2) an increased understanding of asthma-related data and its application to program planning through development of an ongoing surveillance system; (3) an increased recognition, within the public health structure of a state, of the potential to use a public health approach to reduce the burden of asthma; (4) linkages of the state to many agencies and organizations addressing asthma in the population; and (5) participation in intervention program activities.

This program addresses the “Healthy People 2010” focus areas of Environmental Health, Occupational Safety and Health, and Respiratory Diseases.

Epidemiological surveillance is: “the ongoing systematic collection, analysis, and interpretation of health data essential to the planning, implementation, and evaluation of public health practice, closely integrated with the timely dissemination of these data to those who need to know. The final link in the surveillance chain is the application of these data to prevention and control. A surveillance system includes a functional capacity for data collection, analysis, and dissemination linked to public health programs.” Refer to citation in Attachment I, “The Public Health Surveillance of Asthma,” for more information. (All attachments will be posted with this program announcement on the CDC Web site.)

Measurable outcomes of the program will be in alignment with the following performance goal for the National Center for Environmental Health (NCEH): Reduce the number of deaths, hospitalizations, emergency department visits, school or work days missed, and limitations on activity due to asthma.

This announcement is only for non-research activities supported by CDC. If research is proposed, the application will not be reviewed. For the definition of research, please see the CDC Web site at the following Internet address: http://www.cdc.gov/od/ads/opspoll1.htm.

Activities: Awardee Activities for this program are as follows:

• Enhance the existing asthma surveillance system to include (at a minimum) asthma hospitalizations, morbidity (measures from the Behavioral Risk Factor Surveillance System (BRFSS) or equivalent), mortality, and work-related asthma. Conduct analysis of and interpret surveillance data; and disseminate these data through reports to local, state, and federal partners and agencies.

• Implement a defined subset of interventions described in the State Asthma Plan.

—Improve provider compliance with the National Asthma Education and Prevention Program's (NAEPP) “Guidelines for the Diagnosis and Management of Asthma” (refer to citation in Attachment I for more information).

—Improve the skills of patients and families affected by asthma to manage the disease.

—Review legislation and policies impacting people with asthma.

—Identify environmental factors that contribute to asthma prevalence and morbidity, and reduce or eliminate exposure to these factors.

—Facilitate communication between those implementing and those affected by planned activities.

• Develop and implement an evaluation plan that measures the effectiveness of your program as a whole, as well as each intervention. Systematically document lessons learned.

• Maintain existing, and expand, as appropriate, statewide coalition and partnership activities; include a workgroup to address work-related asthma, if one does not exist; and evaluate effectiveness of collaboration.

• Maintain a strong commitment within the state to support continued efforts of the asthma program.

• Participate in CDC convened meetings and periodic conference calls for grantees to share experiences, data, and materials.

In a cooperative agreement, CDC staff is substantially involved in the program activities, above and beyond routine grant monitoring. CDC Activities for this program are as follows:

• Provide consultation and guidance to awardees to enhance and expand existing asthma surveillance activities, including data collection methods and data analysis.

• Collaborate with awardees on analysis of asthma data, interpretation of individual state surveillance data, and release of surveillance reports.

• Provide technical and scientific assistance and consultation on program development, implementation of the State Asthma Plan, intervention activities, and operational issues.

• Serve as a facilitator for communication between states to share expertise regarding various topics, such as the expansion and development of partnerships, implementation of the State Asthma Plan, and surveillance activities.

• Collaborate on the development of an appropriate evaluation plan that measures the effectiveness of the program as a whole and each intervention. Review and provide feedback on evaluation plans, and link awardees to additional expertise from CDC or its contractors.

• Plan and implement conferences and meetings to provide a forum through which awardees can increase their knowledge and skills, learn from each other, share resources, and work collaboratively to address issues related to reducing the burden of asthma.

II. Award Information

Type of Award: Cooperative Agreement. CDC involvement in this program is listed in the Activities Section above.

Fiscal Year Funds: 2005.

Approximate Total Funding: $1,750,000. (This amount is an estimate, and is subject to availability of funds.)

Approximate Number of Awards: 2-5.

Approximate Average Award: $350,000. (This amount is for the first 12-month budget period, and includes both direct and indirect costs.)

Floor of Award Range: None.

Ceiling of Award Range: $350,000. (This ceiling is for the first 12-month budget period.)

Anticipated Award Date: August 31, 2005.

Budget Period Length: 12 months.

Project Period Length: 3 years.

Throughout the project period, CDC's commitment to continuation of awards will be conditioned on the availability of funds, and evidence of satisfactory progress by the recipient (as documented in required reports), and the determination that federal funding is in the best interest of the Federal Government.

III. Eligibility Information

III.1. Eligible Applicants

Entities eligible to receive this funding are those states currently or previously funded under CDC Program Announcement (PA) 01106, “Addressing Asthma from a Public Health Perspective, Part A Planning”. Those states currently funded under Part A Enhanced or Part B Implementation are excluded.

Eligible applicants are the states of Hawaii, Indiana, Nebraska, Oklahoma, and Washington.

These states may designate their Bona Fide Agents to submit applications. A Bona Fide Agent is an agency/organization identified by the state as eligible to submit an application under the state eligibility in lieu of a state application. If you are applying as a bona fide agent of a state government, you must provide a letter from the state government as documentation of your status. Place this documentation behind the first page of your application form. Only one application from each state may be submitted.

During the initial phase of Addressing Asthma from a Public Health Perspective (PA 01106 Part A Planning), states were required to complete a planning process that entailed developing an asthma surveillance system, establishing partnerships, and collaboratively writing a State Asthma Plan. Successfully completing this process is a prerequisite for states to move into the next phase, Part A Enhanced, where they will begin implementing a limited number of interventions from their state asthma plan. Only those states originally selected via a competitive award process for Part A Planning, and showing evidence of satisfactory progress in achieving Part A objectives, will be eligible.

III.2. Cost Sharing or Matching

Matching funds are not required for this program.

III.3. Other

If you request a funding amount greater than the ceiling of the award range, your application will be considered non-responsive, and will not be entered into the review process. You will be notified that your application did not meet the submission requirements.

Special Requirements: If your application is incomplete or non-responsive to the special requirements listed in this section, it will not be entered into the review process. You will be notified that your application did not meet submission requirements. Late applications will be considered non-responsive. See section “IV.3. Submission Dates and Times” for more information on deadlines.

As previously stated, eligible applicants are those entities currently or previously funded by CDC Program Announcement 01106 “Addressing Asthma from a Public Health Perspective, Part A Planning.” States currently funded for Part A Enhanced or Part B Implementation are excluded. Eligible states are Hawaii, Indiana, Nebraska, Oklahoma, and Washington.

Applicants must document eligibility with the following:

1. Submit a copy of the final, approved, comprehensive State Asthma Plan. Approval can be documented with a letter from the State's Health or Medical Director and a letter from key partners indicating their commitment to and approval of the asthma plan. These letters may be contained within the plan itself. If so, this should be indicated by the applicant. Plans that are pending final approval may be accepted if the entire draft plan is submitted and accompanied by letters from the State Health or Medical Director and key partners stating their commitment to and approval of the plan, a time frame for final approval, and a description of the plan's approval process status. The letters should assure that the State Asthma Plan will be completed within the first month of the year one budget period.

2. Have an operational surveillance system for asthma. This may be documented through submission of the most recent, comprehensive published surveillance report that describes asthma within the state, including, if available, a report on asthma in the Medicaid population and for enrollees of the State Children's Health Insurance Program (SCHIP).

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity, use application form PHS 5161-1.

CDC strongly encourages you to submit your application electronically by utilizing the forms and instructions posted for this announcement at http://www.grants.gov.

Application forms and instructions are available on the CDC Web site, at the following Internet address: http://www.cdc.gov/od/pgo/forminfo.htm.

If you do not have access to the Internet, or if you have difficulty accessing the forms on-line, you may contact the CDC Procurement and Grants Office, Technical Information Management Section (PGO-TIM) staff at: 770-488-2700. Application forms can be mailed to you.

IV.2. Content and Form of Submission

Application: You must submit a project narrative with your application forms. The narrative must be submitted in the following format:

• Maximum number of pages: 45. If your narrative exceeds the page limit, only the first pages, which are within the page limit, will be reviewed. Budget Justification, State Asthma Plan, and asthma burden reports will not count against the narrative page limit.

• Font size: 12 point unreduced

• Spacing: Double-spaced; single-spaced tables in the narrative are acceptable.

• Paper size: 8.5 by 11 inches

• Page margin size: One inch

• Printed only on one side of page

• Held together only by rubber bands or metal clips; not bound in any other way.

• Written in plain language, avoid jargon.

Your narrative should address activities to be conducted over the entire project period, and must include the following items in the order listed:

1. Description of the Problem

Describe what is known about the asthma burden in the state and efforts to systematically address the problem. Include a description of populations at increased risk of poorly controlled asthma (e.g., gender, age groups, racial/ethnic groups, socio-economic groups, and those located in particular geographic areas).

Identify existing initiatives, capacity, and infrastructure of the agency within which the asthma programs will occur.

Describe how barriers, identified when developing the State Asthma Plan, were addressed.

2. Surveillance Plan

Describe the current operational asthma surveillance system within the state. Include a description of each data set that contains asthma specific items, and that is currently available to, and used by, the asthma program. Discuss the limitations of each data set, and specify the most recent year of data available for analysis. At a minimum, the surveillance system should include measures to track asthma morbidity (asthma prevalence measures from the BRFSS or equivalent), asthma mortality, work-related asthma, and asthma hospitalizations. Medicaid and SCHIP data should be discussed, if available.

Provide a surveillance plan containing the following information:

• Future plans for the data that are currently available to the asthma program (e.g., frequency of analysis and distribution, frequency of publication of comprehensive reports, methods of distribution).

• Additional data the program will obtain and methods for obtaining it.

• Plans for identifying specific populations at risk for poorly controlled asthma (e.g., gender, age groups, racial/ethnic groups, socio-economic groups, or by geographic area).

• How the state will use existing and new data to develop or enhance an ongoing surveillance system.

• How the surveillance data will be used to support policy, program development, implementation, and evaluation activities.

Describe the methods that will be used to analyze, interpret, and disseminate surveillance data through published reports to local, state, and federal partners and agencies.

In addition to cross-sectional analysis, include in the surveillance plan a discussion of how the asthma surveillance system will be used to monitor trends over time.

Applicants funded by this announcement will be expected to use the BRFSS optional ten question adult asthma history module, the BRFSS optional six-question child selection module and the BRFSS optional two question child prevalence module within the first year of the project period, as well as in subsequent years. Applicants should plan to fund their state BRFSS for the ten adult questions and the two child prevalence questions. Since the six questions in the child selection module will be used by other programs, use of this module should be coordinated with those programs, and costs for this module should be shared with those other programs, if possible.

A letter of support from the BRFSS coordinator, which acknowledges the intent to use these modules, must be included in the application. A letter of support from other programs using the child selection module must be included in the application, and should specify intent to share costs.

In place of the ten-question adult asthma history module, the applicant can choose to use the BRFSS Asthma Call-Back Survey. This asthma-only call-back survey will provide extensive additional information on asthma. It will be available to all states for data collection year 2006, with funding provided through the BRFSS funding mechanism. The state asthma program will still need to fund the use of the six question child selection module and the two question child prevalence module to identify children with asthma for the call-back survey. Adults with asthma are identified by the BRFSS core questions. If this call-back survey is used in place of the adult history module, a letter of support from the BRFSS coordinator, which acknowledges agreement with the intent to use the asthma call-back survey, must be included in the application.

If the state asthma program has another method (such as the State and Local Area Integrated Telephone Survey—National Survey of Children's Health) to acquire the same or similar information as that acquired from BRFSS, applicant should provide a detailed justification and description of alternate information and methodology.

Submit copies of the most recent, comprehensive, published surveillance report that describes asthma within the state, including data of all available types (mortality, prevalence, hospitalization, emergency department visits, Medicaid and SCHIP enrollee data, and BRFSS adult history and child prevalence data). The report should include an analysis of the most recent year of data available from each data source mentioned above.

For more information, refer to the following citations in Attachment 1:

• “Updated Guidelines for Evaluating Surveillance Systems, Recommendations from the Guidelines Working Group”

• “Surveillance of Work-Related Asthma in Selected U.S. States Using Surveillance Guidelines for State Health Departments—California, Massachusetts, Michigan and New Jersey, 1993-1995”

• “The Role of States in a Nationwide Comprehensive Surveillance System for Work-related Diseases, Injuries and Hazards”

• “Minimum and Comprehensive State-Based Activities in Occupational Safety and Health”

• “American Thoracic Society Statement: Occupational Contribution to the Burden of Airway Disease”

For more information on the BRFSS Asthma Call-Back Survey, see Attachment II.

3. State Asthma Plan

Submit a copy of the final, approved, comprehensive State Asthma Plan. Approval can be documented with a letter from the State's Health or Medical Director and a letter from key partners indicating their commitment to and approval of the asthma plan. These letters may be contained within the plan itself. If so, this should be indicated by applicant. Plans that are pending final approval may be accepted if the entire draft plan is submitted and accompanied by letters from the State Health or Medical Director and key partners stating their commitment to and approval of the plan, a time frame for final approval, and a description of the plan's approval process status. The letters should assure that the State Asthma Plan will be completed within the first month of the year one budget period.

Describe the collaborative process by which the comprehensive State Asthma Plan was developed. Describe how the plan addresses all persons with asthma regardless of age, race/ethnicity (including Native Americans), gender, or geographic locale, and includes key environments in which persons with asthma spend significant time (e.g., home, school, or workplace). If a specific population is not affected by asthma, clearly identify and describe this population.

Include information about the agencies and organizations that have participated in the planning process and describe their roles and responsibilities, and how they will be involved in implementing interventions.

Describe how data collected in the asthma surveillance system is used to identify priority areas and guide the development of program goals and objectives.

Describe a subset of interventions from the State Asthma Plan to be implemented with these grant funds. Also, briefly explain the remaining interventions in the State Asthma Plan that will not be conducted under this announcement due to limited funding.

Note that a statewide approach is encouraged. If focusing on one segment of the population, explain and justify the rationale for this approach.

Proposed activities to meet the plan's objectives may include, but are not limited to, efforts to:

• Expand surveillance for asthma.

• Improve provider compliance with the National Asthma Education and Prevention Program's (NAEPP) “Guidelines for the Diagnosis and Management of Asthma” (refer to citation in Attachment I for more information).

• Improve the skills of patients and families affected by asthma to manage the disease.

• Review legislation and policies impacting people with asthma.

• Identify environmental factors that contribute to asthma prevalence and morbidity, and reduce or eliminate exposure to these factors.

• Facilitate communication between those implementing and those affected by planned activities.

Explain how the State Asthma Plan will evolve and change based on analysis of surveillance data, evaluation of interventions, and other outside factors that affect the state support for asthma.

4. Collaboration Plan

Describe experiences with partnerships requiring extensive collaboration to address asthma, both within and outside the agency. Specifically, define the approach to be used to establish or further develop these relationships.

Document partnerships with the clinical community; local health agencies; physician organizations; community health centers; local, state, or regional asthma or respiratory health organizations (e.g., American Lung Association); state or local education authorities; and groups or organizations that serve minority or other populations experiencing a disproportionate burden of asthma. Also, include representatives from state governmental agencies (e.g., Department of Labor); federal agencies; public health agencies; and professional care organizations conducting or interested in work-related asthma activities. If one or more of these partners is not listed, the applicant should explain why.

Describe how the collaboration:

• Established leadership.

• Developed consensus regarding goals.

• Identified roles and responsibilities.

• Developed procedures and patterns for communication.

• Sustained the participation of members over time.

Provide letters of commitment from each specific organization, including a statement of how they do, or intend to, collaborate, as well as their expertise and capacity to carry out assigned responsibilities.

Describe how the partners who developed the State Asthma Plan will continue to work together to implement and monitor the intervention strategies and modify the plan over time. Expand partnership activities as appropriate.

5. Implementation Plan

Provide specific, realistic, measurable, and time-phased objectives for each of the interventions to be implemented over the three-year project period using resources of this announcement. If objectives and interventions from the plan are addressed using other resources, explain how they are related. While the overall State Asthma Plan must address all populations, interventions should be prioritized based on surveillance data, focusing on high priority and disparate populations first. Disparate populations include those communities that are experiencing worse than average health, or are medically underserved.

Interventions that change systems and individuals to provide improved disease management or education are preferred. This discussion might include the guidelines that the applicant will use for work-related asthma, such as “Minimum and Comprehensive State-Based Activities in Occupational Safety Health,” and/or “The Role of States in a Nationwide Comprehensive Surveillance System for Work-related Diseases, Injuries and Hazards.” Refer to citations in Attachment I for more information.

Include an assessment of existing and needed resources to implement these strategies.

Describe how implementation activities from the State Asthma Plan were selected by members of the statewide partnership group, and how they determined that these particular objectives and strategies would be addressed first. Demonstrate the extent to which the intervention plan is supported in the community by the inclusion of letters of support from key members of the community. Letters should describe their willingness to work together to implement and monitor the intervention strategies, and modify the plan over time.

Demonstrate the scientific basis for proposed interventions. If proposed interventions include case management programs, assure that patients enrolled are those with moderate to severe persistent asthma, and are receiving care consistent with the NAEPP “Guidelines for the Diagnosis and Management of Asthma.” Refer to citation in Attachment I for more information.

Provide the methodology and specific measures for monitoring progress in meeting all objectives related to implementation of activities in the asthma plan.

Provide measures for evaluating process, impact, and outcomes for each goal and objective. For more information, refer to the citation in Attachment I, “Framework for Program Evaluation in Public Health,” or other evaluation resources on the CDC Web site at http://www.cdc.gov/eval/framework.htm.

6. Workplan

Provide specific goals, objectives, and activities that describe what the state intends to accomplish by the end of the three-year project period. These goals, objectives and activities should be measurable, realistic, related to Awardee Activities described in Section I of this funding opportunity announcement, and reflect activities in years one, two, and three of the project. Include a project time-line that indicates when the proposed goals, objectives, and activities will be completed. A single-spaced table format may be used for this.

Document how progress made toward meeting the objectives will be evaluated. Provide measures for evaluating process, impact, and outcome for each goal and objective. For more information, refer to the citation in Attachment I, “Framework for Program Evaluation in Public Health,” or other evaluation resources on the CDC Web site at http://www.cdc.gov/eval/framework.htm.

In addition, describe how lessons learned will be systematically gathered, documented, and included as an integral part of the evaluation process.

7. Management and Staffing

Demonstrate the applicant's organizational commitment to the asthma program by describing how the state as a whole will focus its efforts on asthma. Provide a plan to maintain a strong commitment within the state to support continued efforts of the asthma program.

Describe the organizational location of the proposed staff, their relation to the state asthma contact (the position currently responsible for contact with CDC on asthma issues), and the support within the organizational structure for the activities defined for the project staff. Attach an organizational chart for the unit where asthma activities will be located and, at a minimum, the next two levels above it.

Describe the qualifications and roles of trained public health professionals to serve as: at least the equivalent of one full-time asthma coordinator to manage the planning process and conduct other programmatic activities; at least the equivalent of one full-time epidemiologist to develop and implement surveillance activities for the asthma project; and a supervisor (paid with grant funds or in-kind contributions) who will assure support for the project staff. Other program positions may also be proposed. Attach an official position description, qualifications and curricula vitae for all proposed staff positions.

For each position, describe the primary roles and responsibilities for the project staff over the three-year project period. Also, include specific staff activities that will contribute to meeting each objective. Describe the level of involvement of the principal investigator.

Provide a plan to expedite filling of the staff position(s) within the first budget year and assure that they have been, or will be, approved by the applicant's personnel system. Include a letter of support from the state guaranteeing hiring of personnel and support for the asthma program. Also, describe positions in the asthma program that are currently filled, but will not be funded by resources under this cooperative agreement.

Assure that at least two key project staff will attend and participate in the conferences or grantee meetings convened by CDC, and their willingness to share innovations, information, data, and materials. This should be reflected in the budget.

8. Budget and Justification

Include a detailed first-year budget with narrative justifications, as well as annual budget projections for years two and three (budget and justification will not be counted toward the narrative page limit). The applicant should describe the program purpose for each budget item. For each contract contained within the budget, provide: (a) The name(s) of the contractor(s); (b) method of selection; (c) period of performance; (d) description of activities; (e) method of accountability; and (f) an itemized budget with narrative justifications.

The budget should include travel funds for at least two project staff to attend a yearly conference or grantee meeting convened by CDC.

If applicable, list other funds outside this cooperative agreement (i.e., in-kind contributions) that will be used to support this program.

Additional information may be included in the application appendices. The appendices will not be counted toward the narrative page limit. This additional information includes: Curriculum Vitaes, Resumes, Organizational Charts, Position Descriptions, Letters of Support, the State Asthma Plan and supporting documentation, Surveillance Reports, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the CDC Web site at: http://www.cdc.gov/od/pgo/funding/pubcommt.htm. If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: June 6, 2005.

Explanation of Deadlines: Applications must be received in the CDC Procurement and Grants Office by 4 p.m. Eastern Time on the deadline date.

You may submit your application electronically at http://www.grants.gov. Applications completed online through Grants.gov are considered formally submitted when the applicant organization's Authorizing Official electronically submits the application to http://www.grants.gov. Electronic applications will be considered as having met the deadline if the application has been submitted electronically by the applicant organization's Authorizing Official to Grants.gov on or before the deadline date and time.

If you submit your application electronically with Grants.gov, your application will be electronically time/date stamped, which will serve as receipt of submission. You will receive an e-mail notice of receipt when CDC receives the application.

If you submit your application by the United States Postal Service or commercial delivery service, you must ensure that the carrier will be able to guarantee delivery of the application by the closing date and time. If CDC receives your application after closing due to: (1) Carrier error, when the carrier accepted the package with a guarantee for delivery by the closing date and time, or (2) significant weather delays or natural disasters, you will be given the opportunity to submit documentation of the carrier's guarantee. If the documentation verifies a carrier problem, CDC will consider the application as having been received by the deadline.

If you submit a hard copy application, CDC will not notify you upon receipt of your submission. If you have a question about the receipt of your LOI or application, first contact your courier. If you still have a question, contact the PGO-TIM staff at 770-488-2700. Before calling, please wait two to three days after the application deadline. This will allow time for applications to be processed and logged.

This announcement is the definitive guide on application content, submission address, and deadline. It supersedes information provided in the application instructions. If your submission does not meet the deadline above, it will not be eligible for review, and will be discarded. You will be notified that you did not meet the submission requirements.

IV.4. Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

IV.5. Funding Restrictions

Restrictions, which must be taken into account while writing your budget, are as follows:

• Funds may not be used to conduct research. Surveillance and evaluation activities that are for the purposes of monitoring program performance are not considered research. However, any identifiable information collected must be kept confidential.

• Cooperative agreement funds may be used to support costs that are directly related to the program activities, and are consistent with the scope of the cooperative agreement.

• Awards will allow reimbursement of pre-award costs.

• Funds awarded under this program announcement may not be used for screening or registry activities.

• Federal funds awarded under this program announcement may not be used to supplant state or local funds.

• Grant funds may be used to leverage asthma program development in the state, along with resources from other collaborative agencies and organizations.

If you are requesting indirect costs in your budget, you must include a copy of your indirect cost rate agreement.

If your indirect cost rate is a provisional rate, the agreement must be less than 12 months old.

Guidance for completing your budget can be found on the CDC Web site, at the following Internet address: http://www.cdc.gov/od/pgo/funding/budgetguide.htm.

IV.6. Other Submission Requirements

Application Submission Address: CDC strongly encourages applicants to submit electronically at: http://www.grants.gov. You will be able to download a copy of the application package from http://www.grants.gov, complete it offline, and then upload and submit the application via the Grants.gov site. E-mail submissions will not be accepted. If you are having technical difficulties in Grants.gov, they can be reached by e-mail at http://www.support@grants.gov or by phone at 1-800-518-4726 (1-800-GRANTS). The Customer Support Center is open from 7 a.m. to 9 p.m., Monday through Friday.

CDC recommends that you submit your application to Grants.gov early enough to resolve any unanticipated difficulties prior to deadline. You may also submit a back-up paper submission of your application. Any such paper submission must be received in accordance with the requirements for timely submission detailed in Section IV.3. of the grant announcement. The paper submission must be clearly marked: “BACK-UP FOR ELECTRONIC SUBMISSION.”

The paper submission must conform to all requirements for electronic submissions. If both electronic and back-up paper submissions are received by the deadline, the electronic version will be considered the official submission.

It is strongly recommended that you submit your grant application using Microsoft Office products (i.e., Microsoft Word, Microsoft Excel, etc.). If you do not have access to Microsoft Office products, you may submit a PDF file. Directions for creating PDF files can be found on the Grants.gov web site. Use of file formats other than Microsoft Office or PDF may result in your file being unreadable by our staff. Or

Submit the original and two hard copies of your application by mail or delivery service to: Technical Information Management-PA # 05044, CDC Procurement and Grants Office, 2920 Brandywine Road, Atlanta, GA 30341.

V. Application Review Information

V.1. Criteria

Applicants are required to provide measures of effectiveness that will demonstrate the accomplishment of the various identified objectives of the cooperative agreement. Measures of effectiveness must relate to the performance goals stated in the “Purpose” section of this program announcement. Measures must be objective and quantitative, and must measure the intended outcome. These measures of effectiveness must be submitted with the application and will be an element of evaluation.

Your application will be evaluated by the extent to which you demonstrate evidence for the following criteria. Criteria are listed according to their point value; you do not have to address them in this order. Points in parentheses reflect the number of possible points for that section. The total number of points for the entire application is 100.

1. Workplan (20 Points)

Does applicant identify goals, objectives, and activities that:

• Are consistent with surveillance findings and the Awardee Activities described in Section I of this Program Announcement?

• Are specific, measurable, and realistic?

• Reflect activities in years one, two, and three of the project period?

Are the activities likely to achieve objectives, and are the objectives likely to contribute to accomplishment of identified goals?

Is the time-line for accomplishing proposed goals, objectives, and activities reasonable?

Are measures for monitoring and evaluating the process, impact, and outcome of each goal and objective specific and appropriate?

Is the plan to systematically gather and document lessons learned incorporated into the program evaluation process?

2. Surveillance Plan (20 Points)

Does the applicant demonstrate an operational surveillance system for asthma as evidenced by a description of existing data sources, the timeliness of the data available and any limitations? Does the plan use appropriate measures to track the following over time:

• Asthma hospitalizations?

• Asthma morbidity (measures from the BRFSS or equivalent)?

• Asthma mortality?

• Work-related asthma?

Are Medicaid and SCHIP data included, if available?

Does the applicant explain how the state will enhance an on-going surveillance system by describing:

• Future plans for analyzing the data currently available?

• Additional data the state will obtain and the methods for obtaining it?

• Plans for the identification of demographic groups at high risk for poor asthma health outcomes?

• How the existing surveillance system will be enhanced by additional data sets and/or additional analyses of existing data?

• How the data will be used to support policy and program development, implementation and evaluation?

Are surveillance data analyses, interpretation and dissemination methods described and are they appropriate? Is the utility of existing data for time trends analysis discussed and is it reasonable?

Does the plan clearly state applicant's intent, within the first year of the project period and in subsequent years, to implement:

• The BRFSS optional six-question child selection module?

• The BRFSS optional two-question child asthma module?

• The BRFSS optional ten question adult module; or

The BRFSS Asthma call-back survey?

Are letters of support from the BRFSS coordinator and other programs using the child selection module (if any) included? If another method (other than BRFSS) will be used, or if the applicant is unable to implement the recommended BRFSS modules, is a detailed and reasonable justification provided?

Are the attached surveillance reports comprehensive and timely (data from the most recently available year are used)? Is the burden of asthma within the state fully described, including: mortality; BRFSS prevalence; BRFSS adult history and child prevalence data; and, if available, hospitalization, emergency department, Medicaid and SCHIP enrollee data?

Does the surveillance report clearly identify segments of the population, such as specific age groups, ethnic/racial groups, socio-economic groups, or those residing in particular geographic regions, at disparate risk for asthma and asthma outcomes in each data source?

3. State Asthma Plan (15 Points)

Is the State Asthma Plan comprehensive? Has it been approved by the state and key partners? If not already approved, has the applicant provided assurance that the State Asthma Plan will be completed within one month of the first budget year?

Does the plan address all persons with asthma, regardless of gender, age, race/ethnicity, or geographic location? Are key environments in which persons with asthma spend significant time (e.g., home, school, or workplace) addressed?

Are the number and type of agencies and organizations that participated in developing the State Asthma Plan appropriate? Are partner's roles and responsibilities fully described and reasonable?

Does the applicant describe the collaboration's progress towards:

• Establishing leadership?

• Developing a consensus regarding goals?

• Identifying roles and responsibilities through a negotiated process?

• Developing routine and consistent patterns of communications?

• Sustaining the participation of members over time?

Will collaborative relationships be used after the plan is in place and the state begins to implement selected interventions?

Are a subset of the interventions to be implemented from the State Asthma Plan with grant funds described? Do proposed activities to meet the plan's objectives include, at a minimum, efforts to:

• Expand surveillance for asthma?

• Improve provider compliance with the NAEPP “Guidelines for the Diagnosis and Management of Asthma?

• Improve the skills of patients and families affected by asthma to manage the disease?

• Review legislation and policies impacting people with asthma?

• Identify environmental factors that contribute to asthma prevalence and morbidity, and reduce or eliminate exposure to these factors?

• Facilitate communication between those implementing and those affected by planned activities?

Was asthma data collected by the surveillance system used to identify priority areas and guide the development of program goals and objectives? Are future plans to do this described?

Does applicant describe how the State Asthma Plan will evolve over time, and the process by which changes will be made?

4. Collaboration Plan (15 Points)

Does applicant demonstrate previous successful experiences collaborating with internal and external partners to address asthma?

Do collaborating organizations and agencies represent a wide variety of appropriate partners in the clinical community; local health agencies; physician organizations; community health centers; local, state or regional asthma or respiratory health organizations (such as the American Lung Association); local or state education authorities; and groups or organizations that serve populations experiencing a disproportionate burden of asthma? Are representatives from state governmental agencies (e.g., Department of Labor), federal agencies, public health agencies, and professional care organizations conducting or interested in work-related asthma activities included? If one or more of these partners is not included, does the applicant explain why?

Does the applicant describe satisfactory progress by the collaboration around:

• Establishing leadership?

• Developing a consensus regarding goals?

• Identifying roles and responsibilities through a negotiated process?

• Developing routine and consistent procedures and patterns of communications?

• Sustaining the participation of members over time?

Does applicant describe how progress is monitored?

Do letters of commitment from key organizations demonstrate their willingness, expertise, and specific capacity to carry out assigned responsibilities?

Does applicant realistically describe how partners who developed the State Asthma Plan will continue to work together to monitor the intervention strategies over time?

How likely is it that the plan for evaluating the effectiveness of collaborations will be implemented, and that measures to assess effectiveness will be reasonable and identify areas for improvement?

5. Management and Staffing Plan (15 Points)

Does the state demonstrate a high level of commitment and organizational support for the asthma program? Are organizational charts included, showing where the asthma program is located?

Are roles of proposed staff members adequately defined and appropriate for carrying out stated responsibilities? Is the proposed level of involvement of the principal investigator adequate?

Does the staffing plan include at least the equivalent of one full-time asthma coordinator, at least the equivalent of one full-time epidemiologist, and a supervisor?

Do job descriptions, qualifications, and curricula vitae indicate that each proposed staff member has the credentials, knowledge, training, and experience to perform assigned duties?

Is the plan to expedite filling of the staff position(s) and assure that they will be approved by the applicant's personnel system, realistic?

Does the applicant commit to having at least two key project staff attend CDC conferences and meetings, to share innovations, information, data, and materials?

6. Implementation Plan (10 Points)

Does the applicant present specific, realistic, measurable and time-phased objectives for each intervention proposed, along with appropriate measures to evaluate process, impact and outcomes?

Do proposed interventions focus on high priority and disparate populations, with priorities based on surveillance data?

Are interventions focused on bringing about change at both the systems level and the individual level to provide improved disease management and education?

Is the intervention plan supported in the community, as demonstrated by the inclusion of letters of support from key members of the community?

Does the applicant demonstrate a scientific basis for each proposed intervention?

Does the applicant demonstrate the availability of sufficient resources to implement the proposed subset of interventions?

Are the methods and measures for monitoring progress towards meeting intervention goals and objectives appropriate?

7. Description of the Problem (5 Points)

Does the applicant provide a comprehensive description of what is known about the asthma burden in the state, including all ages, race/ethnic groups, and geographic areas?

Does the applicant fully identify existing initiatives, capacity, and infrastructure of the state within which the asthma programs will occur?

Were barriers identified when developing the State Asthma Plan appropriately addressed?

Is the state's commitment to addressing asthma demonstrated by accomplishments to date and understanding of the problem?

8. Budget (Reviewed, But Not Scored)

The budget is comprehensive and includes details for year one, and projections for years two and three, of the project period.

The budget contains justifications that are consistent with stated goals, objectives, activities, and the intended use of cooperative agreement funds.

The budget is reasonable and includes funds for at least two project staff to attend a yearly conference or grantee meeting convened by CDC.

9. Performance Goals (Reviewed, But Not Scored)

The extent to which the applicant will reduce the number of deaths, hospitalizations, emergency department visits, school or work days missed, and limitations on activity due to asthma in the state.

V.2. Review and Selection Process

Applications will be reviewed for completeness by the Procurement and Grants Office (PGO) staff, and for responsiveness by National Center of Environmental Health (NCEH). Incomplete applications and applications that are non-responsive to the eligibility criteria will not advance through the review process. Applicants will be notified that their application did not meet submission requirements.

An objective review panel will evaluate your application according to the criteria listed in the “V.1. Criteria” section above. All members of the panel will be CDC employees from outside of the funding center (NCEH).

In addition, the following factors may affect the funding decision: (1) Geographic distribution; and (2) racial and ethnic populations with a disproportionate asthma burden. CDC will provide justification for any decision to fund out of rank order.

V.3. Anticipated Announcement Award Dates

August 31, 2005.

VI. Award Administration Information

VI.1. Award Notices

Successful applicants will receive a Notice of Award (NoA) from the CDC Procurement and Grants Office. The NoA shall be the only binding, authorizing document between the recipient and CDC. The NoA will be signed by an authorized Grants Management Officer, and mailed to the recipient fiscal officer identified in the application.

Unsuccessful applicants will receive notification of the results of the application review by mail.

VI.2. Administrative and National Policy Requirements

45 CFR Part 74 or Part 92

For more information on the Code of Federal Regulations, see the National Archives and Records Administration at the following Internet address: http://www.access.gpo.gov/nara/cfr/cfr-table-search.html.

The following additional requirements apply to this project:

• AR-7 Executive Order 12372

• AR-8 Public Health System Reporting Requirements

• AR-10 Smoke-Free Workplace Requirements

• AR-11 Healthy People 2010

• AR-12 Lobbying Restrictions

• AR-21 Small, Minority, and Women-Owned Business

Additional information on these requirements can be found on the CDC Web site at the following Internet address: http://www.cdc.gov/od/pgo/funding/ARs.htm.

An additional Certifications form from the PHS5161-1 applications needs to be included in your Grants.gov electronic submission only. Refer to http://www.cdc.gov/od/pgo/funding/PHS5161-1Certificates.pdf. Once the form is filled out, attach it to your Grants.gov submission as Other Attachment Forms.

VI.3. Reporting Requirements

You must provide CDC with an original, plus two hard copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Financial status report and annual progress report, no more than 90 days after the end of the budget period.

3. Final financial and performance reports, no more than 90 days after the end of the project period.

These reports must be sent to the Grants Management Officer listed in the “Agency Contacts” section of this announcement.

VII. Agency Contacts

For general questions about this announcement, contact: Technical Information Management Section, CDC Procurement and Grants Office, 2920 Brandywine Road, Atlanta, GA 30341, Telephone: 770-488-2700.

For program technical assistance, contact: Michele Mercier, Project Officer, Air Pollution and Respiratory Health Branch, Division of Environmental Hazards and Health Effects, National Center for Environmental Health, Centers for Disease Control and Prevention, 1600 Clifton Road, NE, Mailstop E-17, Atlanta, GA 30333, Telephone: 404-498-1033, E-mail: mmercier@cdc.gov.

For financial, grants management, or budget assistance, contact: Gary Teague, Grants Management Specialist, CDC Procurement and Grants Office, 2920 Brandywine Road, Atlanta, GA 30341, Telephone: 770-488-1981, E-mail: GTeague@cdc.gov.

VIII. Other Information

This and other CDC funding opportunity announcements can be found on the CDC Web site, Internet address: http://www.cdc.gov. Click on “Funding” then “Grants and Cooperative Agreements.”

For additional reference materials, please see Attachments I and II.

Dated: April 14, 2005.
William P. Nichols,
Director, Procurement and Grants Office, Centers for Disease Control and Prevention.

Attachment I—References

“National Asthma Training Curriculum” CD-ROM educational resource, CDC National Center for Environmental Health and the Academy of Allergy, Asthma and Immunology, August 2004.

“Potentially Effective Interventions for Asthma” http://www.cdc.gov/asthma/interventions.htm.

Boss, L.; Kreutzer, R.; Luttinger, D.; Leighton, J.; Wilcox, K.; and Redd, S. “The Public Health Surveillance of Asthma,” Journal of Asthma, 38(1), 83-89, 2001.

“Framework for Program Evaluation in Public Health,” Morbidity and Mortality Weekly Report, September 17, 1999/48(RR-11); 1-40 at http://www.cdc.gov/mmwr/preview/mmwrhtml/rr4811a1.htm or http://www.cdc.gov/eval/framework.htm.

“Surveillance of Work-Related Asthma in Selected U.S. States Using Surveillance Guidelines for State Health Departments—California, Massachusetts, Michigan and New Jersey, 1993-1995,” Morbidity and Mortality Weekly Report, June 25, 1999/48 (SS03); 1-20 at http://www.cdc.gov/mmwr/preview/mmwrhtml/ss4803a1.htm.

“The Role of States in a Nationwide Comprehensive Surveillance System for Work-related Diseases, Injuries and Hazards'' at http://www.cste.org/occupationalhealth.htm.

“Minimum and Comprehensive State-Based Activities in Occupational Safety and Health,” June 1995—DHHS (NIOSH) Publication No. 95-107 at http://www.cdc.gov/niosh/95-107.html.

“American Thoracic Society: Occupational Contribution to the Burden of Airway Disease,” American Journal of Respiratory and Critical Care Medicine, 167:787-797, 2003.

“Updated Guidelines for Evaluating Surveillance Systems, Recommendations from the Guidelines Working Group,” Morbidity and Mortality Weekly Report, July 27, 2001/(50)RR-13; 1-35 at http://www.cdc.gov/mmwr/preview/mmwrhtml/rr5013a1.htm.

Madden, J; Boss, L; Kownaski, M; Lambright, L; Lee, C; Luttinger, D; Recer, G; Wedemeyer, C. “Guide for State Health Agencies in the Development of Asthma Programs.” Atlanta, Georgia: U.S. Centers for Disease Control and Prevention, 2003.

“Guidelines for the Diagnosis and Management of Asthma,” (Clinical Practice Guidelines, Guidelines for the Diagnosis and Management of Asthma. National Institutes of Health (NIH), National Heart, Lung and Blood Institute. NIH publication No. 97-4051, April 1997) at http://www.nhlbi.nih.gov/guidelines/asthma/asthgdln.htm.

“Key Clinical Activities for Quality Asthma Care: Recommendations of the National Asthma Education and Prevention Program.” MMWR March 28, 2003; 52(RR06):1-84.

Strategies for addressing asthma in school settings: http://www.cdc.gov/HealthyYouth/asthma/.

Attachment II—BRFSS Asthma Call-Back Survey

The National Asthma Survey (NAS) is a comprehensive state/city level detailed asthma survey. It is administered by phone and includes respondents of all ages. Previously the NAS was linked to the National Immunization Survey (NIS) through the State and Local Area Integrated Telephone Survey (SLAITS) mechanism. SLAITS is a function of the National Center for Health Statistics. A full questionnaire for that survey can be viewed on the SLAITS Web site. http://www.cdc.gov/nchs/about/major/slaits/nsa.htm.

The initial NAS field test occurred in 2002 in Alabama, California, Illinois and Texas. This first field test did not achieve an adequate response rate level. Consequently additional field tests were implemented to determine whether procedural changes could improve the response rate. In 2003, the NAS was conducted as a field test in the same four states and also in a national sample.

There were four arms in the 2003 field test. The national sample and the state sample were the two main arms. The national sample obtains demographic information about respondents who do not have asthma in order to estimate prevalence rates. The four-state sample only solicited information from households that had a member with asthma and, consequently, prevalence rates cannot be determined. Results from comparing the four state results with the first field test will determine if obtaining prevalence rates resulted in a significantly lower response rate. Comparing the national sample with the first field test in the four states will determine if the four selected states were particularly difficult with respect to response rates as was suggested from the results from other surveys.

Each of the two main arms was also divided into a NIS-connected sample and a sample independent of the NIS procedures. Comparisons between these two secondary arms within each primary arm will determine if restrictions related to the NIS survey procedures were detrimental to the NAS response rate. In addition, several other modifications were made to simplify the selection of a single respondent from the household members.

During 2004 the data obtained were weighted and scrutinized to determine the best combination of methodological changes to ensure that quality data result from further implementation of the National Asthma Survey.

In 2005 the NAS will be implemented as a call-back survey in conjunction with the Behavioral Risk Factor Surveillance System (BRFSS) in three test states (Michigan, Minnesota and Oregon). The child selection module and the child prevalence module must be conducted at the time of the BRFSS interview. Adults and children who are identified with lifetime asthma will be called back approximately 2 weeks after the initial BRFSS telephone interview. At the time of the call-back the NAS interview will be conducted. Draft questionnaires can be obtained by contacting the Air Pollution and Respiratory Health Branch (404-498-1000). Prevalence figures for adults in all BRFSS areas (50 states, DC and 3 territories) can be obtained from the core BRFSS survey. However, the child selection module and child prevalence modules are needed for state level child prevalence estimates from BRFSS.

In 2006 funding to implement the BRFSS asthma call-back survey will be provided to BRFSS states, DC, or territories who successfully apply for that funding in conjunction with their BRFSS funding. Asthma program staff must work jointly with their state's BRFSS program coordinator when submitting request for asthma call-back funding to the National Center for Chronic Disease Prevention and Health Promotion (NCCDPHP).

[FR Doc. 05-7889 Filed 4-19-05; 8:45 am]

BILLING CODE 4163-18-P